DEPARTMENT OF TRANSPORTATION

Federal Motor Carrier Safety Administration

[Docket Nos. FMCSA-98-3298 and FMCSA-98-3299]

Notice of Scoping Meetings and Soliciting Scoping Comments for Programmatic Environmental Impact Statement and General Conformity Evaluation for Proposal To Promulgate North American Free Trade Agreement Regulations

AGENCY: Federal Motor Carrier Safety Administration (FMCSA), DOT.

ACTION: Announcement of public scoping meetings.

SUMMARY: The agency is in the early stages of preparing an environmental analysis, including a Programmatic Environmental Impact Statement (PEIS) and a General Conformity Evaluation (GCE), assessing the potential environmental impacts'such as impact on air quality'on its proposal to promulgate regulations allowing trucks and buses domiciled in Mexico to operate throughout the United States under conditions ensuring public safety. The FMCSA is holding several public meetings on environmental issues and concerns to be considered in the PEIS and GCE. The purpose of these meetings is to obtain the public's input on the potential range or scope of environmental impacts and alternatives that should be considered in the PEIS and GCE. FMCSA invites the public to submit comments on the environmental issues and topics that they believe are appropriate for inclusion in these analyses.

DATES: See SUPPLEMENTARY INFORMATION section for meeting dates.

ADDRESSES: See SUPPLEMENTARY INFORMATION section for meeting addresses.

FOR FURTHER INFORMATION CONTACT: Mr. Charles Rombro, Analysis Division, Office of Information Management, (202) 366-1861, FMCSA, Department of Transportation, 400 Seventh Street SW., Washington, DC 20590-0001. You may also visit FMCSA's Web site at http://www.fmcsa.dot.gov/NAFTAEIS or call FMCSA's toll-free hotline number at (800) 288-5634. Inquiries may be made in Spanish or English.

SUPPLEMENTARY INFORMATION:

Meeting Dates and Addresses

The scoping meeting addresses, dates and times are as follows:

1. El Paso—October 21, 2003, 7 p.m. “ 9 p.m.; Franklin High School, 900 North Resler Drive, El Paso, TX; (915) 832-6600.

2. Phoenix—October 21, 2003; 7 p.m. “ 9 p.m.; Wyndham Phoenix Hotel, 50 East Adams Street, Phoenix, AZ; (602) 333-0000.

3. San Diego—October 22, 2003; 7 p.m. “ 9 p.m.; San Diego Concourse, 202 C Street, San Diego, CA; (619) 525-5000.

4. Nogales—October 22, 2003; 7 p.m. “ 9 p.m.; Santa Cruz County Complex, 2150 N. Congress Drive, Nogales, AZ; (520) 375-7812.

5. Los Angeles—October 23, 2003; 7 p.m. “ 9 p.m.; Los Angeles Convention Center; 1201 South Figueroa Street; Los Angeles, CA;

(213) 741-1151.

6. Las Cruces—October 27, 2003; 7 p.m. “ 9 p.m.; New Mexico State University, Corbett Center Student Union; Las Cruces, NM;

(505) 646-3049.

7. Laredo—October 27, 2003; 7 p.m. “ 9 p.m.; Texas A&M International University, 5201 University Blvd, Laredo, TX; (956) 326-2001.

8. Houston—October 28, 2003; 7 p.m. “ 9 p.m.; Reliant Arena; One Reliant Park, Houston, TX; (800) 776-4995.

9. Washington, DC—October 30, 2003; 2 p.m. “ 4 p.m.; Loews L'Enfant Plaza Hotel; 480 L'Enfant Plaza, Washington, DC; (202) 484-1000.

Pre-Registration to Speak at Public Meetings

Persons wanting to speak at a public meeting are encouraged to pre-register by calling FMCSA's toll-free hotline at (800) 288-5634 and leave their name, telephone number, the name of any group, business, or agency affiliation, if applicable, and the date and location of the meeting at which they wish to speak. The deadline for pre-registration for all meetings is October 20, 2003.

Persons will be called to speak at each meeting in the following order: elected officials, those who pre-registered, and then those wishing to speak who did not pre-register. Those wishing to speak at more than one meeting will also be accommodated, after their first meeting, as time allows and after all others have had an opportunity to participate. As FMCSA would like as many persons as possible to participate and since there will be a limited amount of time at each meeting, all speakers are strongly encouraged to prepare summary oral comments, and submit detailed comments in writing at the meeting or as described below. FMCSA also encourages groups of individuals with similar comments to designate a representative to speak for them. A translator will be available at the meetings for Spanish-speakers wishing to speak.

In addition to submitting comments at the public meetings, the public may submit comments to FMSCA by November 7, 2003, via one of the following:

• Project Web site at http://www.fmcsa.dot.gov/NAFTAEIS;

• E-mail to NAFTAEIS@fmcsa.dot.gov;

• FAX at (800) 260-9702; or

• Mail to NAFTA EIS, P.O. Box 4050, Merrifield, VA 22116-4050.

After completing the scoping comment process, FMCSA will prepare a draft EIS and GCE to address the environmental concerns identified by the public. This draft EIS will be made publicly available for review and comment. FMCSA will then prepare a final EIS and issue a record of decision that considers and responds to comments concerning the draft EIS. Both the draft and final PEIS will be available to the public on the Project Web site at http://www.fmcsa.dot.gov/NAFTAEIS. In addition, copies can be requested by calling FMCSA's toll-free hotline at (800) 288-5634.

Background

The FMCSA is responsible for ensuring the safe operation of commercial motor vehicles within the United States. In carrying out these responsibilities, FMCSA proposed regulations in May 2001 prescribing application procedures and procedures for monitoring the safety of Mexico-domiciled carriers seeking permission to operate within the United States. FMCSA proposed these rules pursuant to NAFTA and in anticipation of the President lifting a moratorium previously imposed by Congress on the operating authority of Mexico-domiciled carriers. The proposed regulations would permit Mexico-domiciled carriers to operate throughout the entire Unites States, rather than only in the narrow border commercial zone to which they are currently confined. The implementation of the rules was put on hold as a result of a court decision finding FMCSA should have conducted a more extensive analysis of the environmental impacts of the regulations. See Public Citizen v. Department of Transportation, 316 F. 3d 1002 (9th Cir. 2003).

FMCSA is now in the process of preparing a more extensive environmental analysis of the potential impacts of the rules. This will include a detailed analysis of the environmental impacts of the rules and other alternatives, called a “Programmatic Environmental Impact Statement” or PEIS, to be prepared pursuant to the National Environmental Policy Act of 1969. It also will include an analysis of specific air quality impacts, called a “General Conformity Evaluation” or GCE, to be prepared pursuant to the Clean Air Act of 1990. A notice of intent to prepare a PEIS and a GCE was published in the Federal Register on August 26, 2003 [68 FR 51322].

(Authority: 40 CFR 1506.6)

Issued on: October 3, 2003.
Annette M. Sandberg,
Administrator.

[FR Doc. 03-25618 Filed 10-7-03; 8:45 am]

BILLING CODE 4910-EX-P